DEPARTMENT OF TRANSPORTATION

Federal Highway Administration

Notice of Final Federal Agency Actions on Proposed Transportation Project in California

AGENCY: Federal Highway Administration (FHWA), DOT.

ACTION: Notice of limitation on claims for judicial review.

SUMMARY: The FHWA, on behalf of the California Department of Transportation (Caltrans), is issuing this notice to announce actions taken by Caltrans and the U.S. Department of the Interior, Bureau of Land Management that are final agency actions. These actions relate to the proposed Scenic Route 68 Corridor Improvement project. The project plans intersection operational improvements at nine intersections and wildlife connectivity improvements at five locations within a nine-mile section of State Route 68 between Josselyn Canyon Road and San Benancio Road. The purpose of the project is to reduce travel delays and to reduce vehicle collisions and collisions between vehicles and wildlife, as well as improve access for bicyclists and pedestrians at the intersections. The selected preferred alternative will convert the nine existing signalized intersections to roundabouts.

DATES: By this notice, the FHWA, on behalf of Caltrans, is advising the public of final agency actions subject to 23 U.S.C. 139(l)(1). A claim seeking judicial review of the Federal Agency actions on the listed highway project will be barred unless the claim is filed on or before April 16, 2026. If the Federal law that authorizes judicial review of a claim provides a time period of less than 150 days for filing such claim, then that shorter time period still applies.

ADDRESSES: The Finding of No Significant Impact (FONSI) and additional project documents can be viewed and downloaded from the project website at: https://dot.ca.gov/caltrans-near-me/district-5/current-projects/d5-scenic-route-68-improvements/ or by contacting Caltrans District 5 Environmental, 50 Higuera Street, San Luis Obispo, California, 93401, during normal business hours from 8 a.m. to 5 p.m. (Pacific Time), Monday through Friday, except State holidays.

FOR FURTHER INFORMATION CONTACT: Matt Fowler, Environmental Branch Chief, (805) 779-0793, matt.c.fowler@dot.ca.gov.

SUPPLEMENTARY INFORMATION: Effective July 1, 2007, and as subsequently renewed on May 27, 2022, the FHWA assigned, and Caltrans assumed, environmental responsibilities for this project pursuant to 23 U.S.C. 327. Notice is hereby given that Caltrans and the U.S. Department of the Interior, Bureau of Land Management have taken final agency actions subject to 23 U.S.C. 139(l)(1) by issuing licenses, permits, or approvals for the proposed improvement highway project. The actions by Caltrans and other Federal agencies on the project, and the laws under which such actions were taken are described in the FONSI for the project, and the Section 4(f) de minimis determination included therein, approved on June 18, 2025, and in other project records for the listed project. The FONSI and other documents for the listed project are available by contacting Caltrans at the address provided above.

The project subject to this notice is:

Project Location: The project limits include State Route 68 from Post Mile 4.8 (west of the Josselyn Canyon Road intersection) to Post Mile 13.7 (east of the San Benancio Road intersection) in the County of Monterey.

Project Actions: This notice applies to the FONSI and all other Federal agency licenses, permits, or approvals for the listed project as of the issuance date of this notice including but not limited to the Section 4(f) Resource de minimis determination, and all laws under which such actions were taken, including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Historic and Cultural Resources: Section 106 of the National Historic Preservation Act of 1966, as amended [54 U.S.C. 3006101 et seq.];

6. Hazardous Materials: Comprehensive Environmental Response, Compensation, and Liability Act (CERCLA) [42 U.S.C. 9601-9675]; Resource Conservation and Recovery Act (RCRA) [42 U.S.C. 6901-6992(k)].

7. Executive Orders: E.O. 11990 Protection of Wetlands; E.O. 11988 Floodplain Management; E.O. 13112 Invasive Species, E.O. 12088 Federal Compliance with Pollution Control Standards.

Antonio Johnson,
Director of Planning, Environmental and Right of Way, Federal Highway Administration, California Division.

[FR Doc. 2025-19902 Filed 11-14-25; 8:45 am]

BILLING CODE 4910-RY-P